DEPARTMENT OF THE INTERIOR

National Park Service

Notice of Continuation of Visitor Services—Yosemite National Park

AGENCY: National Park Service, Interior.

ACTION: Notice.

SUMMARY: Under the terms of the existing concession contract, the National Park Service intends to request a continuation of visitor services in Yosemite National Park for a period not to exceed one year from the expiration date of the current contract.

DATES: Effective Date: October 1, 2011.

FOR FURTHER INFORMATION CONTACT: Debra Hecox, Acting Chief, Commercial Services Program, National Park Service, 1201 Eye Street, NW., 11th Floor, Washington, DC 20005; Telephone: 202-513-7156.

SUPPLEMENTARY INFORMATION: We, the National Park Service, have extended the contract listed below for the maximum period allowable under 36 CFR 51.23. We authorize continuation of visitor services for a period not to exceed one year under the terms and conditions of the current contract as amended. We make this authorization under the provisions of current concession contracts and pending the completion of the public solicitation of a prospectus for a new concession contract. The continuation of operations does not affect any rights with respect to selection for award of a new concession contract.

Concession ID No. | Concessioner name | Park
YOSE004-93 | DNC Parks & Resorts, Inc. | Yosemite National Park.

Jo A. Pendry,
Acting Associate Director, Business Services.

[FR Doc. 2011-21090 Filed 8-18-11; 8:45 am]

BILLING CODE 4312-53-M